ENVIRONMENTAL PROTECTION AGENCY

40 CFR Part 52

[EPA-R03-OAR-2021-0531; FRL-9289-02-R3]

Approval and Promulgation of Air Quality Implementation Plans; Pennsylvania; Reasonably Available Control Technology Determinations for Case-by-Case Sources Under the 1997 and 2008 8-Hour Ozone National Ambient Air Quality Standards

AGENCY: Environmental Protection Agency (EPA).

ACTION: Final rule.

SUMMARY: The Environmental Protection Agency (EPA) is approving multiple state implementation plan (SIP) revisions submitted by the Commonwealth of Pennsylvania. These revisions were submitted by the Pennsylvania Department of Environmental Protection (PADEP) to establish and require reasonably available control technology (RACT) for 23 major volatile organic compound (VOC) and/or nitrogen oxide (NOX) emitting facilities pursuant to the Commonwealth of Pennsylvania's conditionally approved RACT regulations. In this rule action, EPA is approving source-specific (also referred to as case-by-case or CbC) RACT determinations or alternative NOX emissions limits for sources at 23 major NOX and VOC emitting facilities within the Commonwealth submitted by PADEP. These RACT evaluations were submitted to meet RACT requirements for the 1997 and 2008 8-hour ozone national ambient air quality standards (NAAQS). EPA is approving these revisions to the Pennsylvania SIP in accordance with the requirements of the Clean Air Act (CAA) and EPA's implementing regulations.

DATES: This final rule is effective on February 25, 2022.

ADDRESSES: EPA has established a docket for this action under Docket ID Number EPA-R03-OAR-2021-0531. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Mr. Riley Burger, Permits Branch (3AD10), Air & Radiation Division, U.S. Environmental Protection Agency, Region III, 1650 Arch Street, Philadelphia, Pennsylvania 19103. The telephone number is (215) 814-2217. Mr. Burger can also be reached via electronic mail at burger.riley@epa.gov.

SUPPLEMENTARY INFORMATION:

I. Background

On August 24, 2021, EPA published a notice of proposed rulemaking (NPRM). 86 FR 47270. In the NPRM, EPA proposed approval of case-by-case RACT determinations or alternative NOX emissions limits for sources at 23 facilities, as EPA found that the RACT controls for these sources met the CAA RACT requirements for the 1997 and 2008 8-hour ozone NAAQS. These case-by-case RACT determinations or alternative NOX emissions limits for sources at these facilities were included in PADEP's May 7, 2020 SIP submission. As indicated in the NPRM, EPA views each facility as a separable SIP revision.

Under certain circumstances, states are required to submit SIP revisions to address RACT requirements for both major sources of NOX and VOC and any source covered by control technique guidelines (CTG), for each ozone NAAQS. Which NOX and VOC sources in Pennsylvania are considered “major,” and are therefore subject to RACT, is dependent on the location of each source within the Commonwealth. Sources located in nonattainment areas would be subject to the “major source” definitions established under the CAA based on the area's current classification(s). In Pennsylvania, sources located in any ozone nonattainment areas outside of moderate or above are subject to source thresholds of 50 tons per year (tpy) because of the Ozone Transport Region (OTR) requirements in CAA section 184(b)(2).

On May 16, 2016, PADEP submitted a SIP revision addressing RACT for both the 1997 and 2008 8-hour ozone NAAQS in Pennsylvania. PADEP's May 16, 2016 SIP revision intended to address certain outstanding non-CTG VOC RACT, VOC CTG RACT, and major source VOC and NOX RACT requirements for both standards. The SIP revision requested approval of Pennsylvania's 25 Pa. Code 129.96-100, Additional RACT Requirements for Major Sources of NOX and VOCs (the “presumptive” RACT II rule). Prior to the adoption of the RACT II rule, Pennsylvania relied on the NOX and VOC control measures in 25 Pa. Code 129.92-95, Stationary Sources of NOX and VOCs, (the RACT I rule) to meet RACT for non-CTG major VOC sources and major NOX sources. The requirements of the RACT I rule remain as previously approved in Pennsylvania's SIP and continue to be implemented as RACT.¹ On September 26, 2017, PADEP submitted a letter, dated September 22, 2017, which committed to address various deficiencies identified by EPA in PADEP's May 16, 2016 “presumptive” RACT II rule SIP revision.

¹ The RACT I Rule was approved by EPA into the Pennsylvania SIP on March 23, 1998. 63 FR 13789. Through this RACT II rule, certain source-specific RACT I requirements will be superseded by more stringent requirements. See Section II of the preamble to this final rule.

On May 9, 2019, EPA conditionally approved the RACT II rule based on the commitments PADEP made in its September 22, 2017 letter.² 84 FR 20274. In EPA's final conditional approval, EPA noted that PADEP would be required to submit, for EPA's approval, SIP revisions to address any facility-wide or system-wide NOX emissions averaging plans approved under 25 Pa. Code 129.98 and any case-by-case RACT determinations under 25 Pa. Code 129.99. PADEP committed to submitting these additional SIP revisions within 12 months of EPA's final conditional approval (i.e., by May 9, 2020). Through multiple submissions between 2017 and 2020, PADEP has submitted to EPA for approval various SIP submissions to implement its RACT II case-by-case determinations and alternative NOX emissions limits. This rulemaking is based on EPA's review of one of these SIP revisions.

² On August 27, 2020, the Third Circuit Court of Appeals issued a decision vacating EPA's approval of three provisions of Pennsylvania's presumptive RACT II rule applicable to certain coal-fired power plants. Sierra Club v. EPA, 972 F.3d 290 (3d Cir. 2020). None of the sources in this final rule are subject to the presumptive RACT II provisions at issue in that Sierra Club decision.

II. Summary of SIP Revision and EPA Analysis

A. Summary of SIP Revision

To satisfy a requirement from EPA's May 9, 2019 conditional approval, PADEP submitted to EPA SIP revisions addressing alternative NOX emissions limits and/or case-by-case RACT requirements for major sources in Pennsylvania subject to 25 Pa. Code 129.98 or 129.99. Among the Pennsylvania RACT SIP revisions submitted by PADEP were case-by-case RACT determinations and alternative NOX emissions limits for the existing emissions units at each of the major sources of NOX and/or VOC that required a source-specific RACT determination or alternative NOX emissions limits for major sources seeking such limits.

In PADEP's case-by-case RACT determinations, an evaluation was completed to determine if previously SIP-approved, case-by-case RACT emissions limits or operational controls (herein referred to as RACT I and contained in RACT I permits) were more stringent than the new RACT II presumptive or case-by-case requirements. If more stringent, the RACT I requirements will continue to apply to the applicable source. If the new case-by-case RACT II requirements are more stringent than the RACT I requirements, then the RACT II requirements will supersede the prior RACT I requirements.³

³ While the prior SIP-approved RACT I permit will remain part of the SIP, this RACT II rule will incorporate by reference the RACT II requirements through the RACT II permit and clarify the ongoing applicability of specific conditions in the RACT I permit.

In PADEP's RACT determinations involving NOX averaging, an evaluation was completed to determine whether the aggregate NOX emissions emitted by the air contamination sources included in the facility-wide or system-wide NOX emissions averaging plan using a 30-day rolling average are greater than the NOX emissions that would be emitted by the group of included sources if each source complied with the applicable presumptive limitation in 25 Pa. Code 129.97 on a source-specific basis.

Here, EPA is approving SIP revisions pertaining to case-by-case RACT requirements and/or alternative NOX emissions limits for sources at 23 major NOX and/or VOC emitting facilities in Pennsylvania, as summarized in Table 1 in this document.

Table 1—Twenty-Three Major NOX and/or VOC Sources in Pennsylvania Subject to Case-by-Case RACT II Determinations Under the 1997 and 2008 8-Hour Ozone NAAQS
Major source (county) | 1-Hour ozone RACT source? (RACT I) | Major source pollutant (NOX and/or VOC) | RACT II permit (effective date)
AK Steel Corp (formerly Armco, Inc. Butler Operations Main Plant; Armco, Inc. Butler Operations Stainless Plant) (Butler) | Yes | NOX and VOC | 10-00001 (2/25/2020)
Allegheny and Tsingshan Stainless LLC, Midland Facility (formerly J & L Specialty Steel, Inc.—Midland Facility) (Beaver) | Yes | NOX and VOC | 04-00013 (2/24/2020)
Alumax Mill Products (Lancaster) | Yes | NOX and VOC | 36-05014 (9/9/2019)
American Craft Brewery LLC (Lehigh) | Yes | NOX and VOC | 39-00006F (10/23/2019)
American Refining Group Inc (formerly American Refining Group, Inc) (McKean) | Yes | NOX and VOC | 42-00004 (1/15/2020) and 42-004K (9/24/2019)
American Zinc Recycling Corp (formerly Horsehead Resource Development Company, Inc) (Carbon) | Yes | NOX | 13-00001 (3/25/2019)
Appvion Operations, Inc. (Blair) | Yes | NOX and VOC | 07-05001 (3/16/2020)
ArcelorMittal Steelton LLC (formerly Bethlehem Steel Corporation) (Dauphin) | Yes | NOX and VOC | 22-05012 (3/1/2020)
Carpenter Technology Corporation, Reading Plt (formerly Carpenter Technology Corporation—Reading Plant) (Berks) | Yes | NOX and VOC | 06-05007 (3/10/2020)
Chestnut Ridge Foam Inc (formerly Chestnut Ridge Foam, Inc.—Latrobe) (Westmoreland) | Yes | VOC | 65-00181 (1/22/2020)
East Penn Manufacturing Company, Inc., Battery Assembly (Berks) | Yes | NOX and VOC | 06-05069 (5/21/2019)
General Carbide Corporation (formerly General Carbide Corp) (Westmoreland) | Yes | VOC | 65-00622 (3/3/2020)
Lord Corp Saegertown (Crawford) | Yes | VOC | 20-00194 (4/12/2021)
NLMK Pennsylvania LLC, Farrell Plt (formerly Caparo Steel Co.—Farrell) (Mercer) | Yes | NOX and VOC | 43-00310 (1/22/2020)
Omnova Solutions Inc.—Auburn Plant (formerly Gencorp, Inc) (Schuylkill) | Yes | VOC | 54-00009 (6/26/2018)
Pixelle Specialty Solutions LLC—Spring Grove Mill (York) | Yes | NOX and VOC | 67-05004 (4/1/2020)
Sonneborn LLC (formerly Crompton Corporation, Fairview Township; Witco Corp—Petrolia Facility) (Butler) | Yes | NOX and VOC | 10-037I (9/17/2019)
Specialty Tires of America, Indiana Plant (formerly Specialty Tires of America, Inc) (Indiana) | Yes | VOC | 32-00065 (1/16/2019)
Standard Steel LLC (formerly Standard Steel Division of Freedom Forge Corp) (Mifflin) | Yes | NOX and VOC | 44-05001 (8/16/2019)
Tennessee Gas Pipeline Co., Mercer Station 219 (formerly Tennessee Gas Pipeline Company, Station 219) (Mercer) | Yes | NOX and VOC | 43-00272 (1/2/2019)
Truck Accessories Group Milton Plant (formerly Truck Accessories Group East) (Northumberland) | Yes | VOC | 49-00020 (1/14/2020)
United Refining Co (formerly United Refining Company) (Warren) | Yes | NOX and VOC | 62-00017 (2/6/2020)
Wheatland Tube Company (Mercer) | Yes | NOX | 43-00182 (3/26/2019)

The case-by-case RACT determinations submitted by PADEP consist of an evaluation of all reasonably available controls at the time of evaluation for each affected emissions unit, resulting in a PADEP determination of what specific emissions limit or control measures satisfy RACT for that particular unit. The adoption of new, additional, or revised emissions limits or control measures to existing SIP-approved RACT I requirements were specified as requirements in new or revised federally enforceable permits (hereafter RACT II permits) issued by PADEP to the source. Similarly, PADEP's determinations of alternative NOX emissions limits are included in RACT II permits. These RACT II permits have been submitted as part of the Pennsylvania RACT SIP revisions for EPA's approval in the Pennsylvania SIP under 40 CFR 52.2020(d)(1). The RACT II permits submitted by PADEP are listed in the last column of Table 1 of this preamble, along with the permit effective date, and are part of the docket for this rule, which is available online at https://www.regulations.gov, Docket No. EPA-R03-OAR-2021-0531.⁴ EPA is incorporating by reference in the Pennsylvania SIP, via the RACT II permits, source-specific RACT emissions limits and control measures and/or alternative NOX emissions limits under the 1997 and 2008 8-hour ozone NAAQS for certain major sources of NOX and VOC emissions.

⁴ The RACT II permits included in the docket for this rule are redacted versions of the facilities' federally enforceable permits. They reflect the specific RACT requirements being approved into the Pennsylvania SIP via this final action.

B. EPA's Final Action

PADEP's SIP revisions incorporate its determinations of source-specific RACT II controls for individual emission units at major sources of NOX and/or VOC in Pennsylvania, where those units are not covered by or cannot meet Pennsylvania's presumptive RACT regulation or where included in a NOX emissions averaging plan. After thorough review and evaluation of the information provided by PADEP in its SIP revision submittals for sources at 23 major NOX and/or VOC emitting facilities in Pennsylvania, EPA found that: (1) PADEP's case-by-case RACT determinations and conclusions establish limits and/or controls on individual sources that are reasonable and appropriately considered technically and economically feasible controls; (2) PADEP's determinations on alternative NOX emissions limits demonstrate that emissions under the averaging plan are equivalent to emissions if the individual sources were operating in accordance with the applicable presumptive limit; and (3) PADEP's determinations are consistent with the CAA, EPA regulations, and applicable EPA guidance.

PADEP, in its RACT II determinations, considered the prior source-specific RACT I requirements and, where more stringent, retained those RACT I requirements as part of its new RACT determinations. In the NPRM, EPA proposed to find that all the proposed revisions to previously SIP-approved RACT I requirements would result in equivalent or additional reductions of NOX and/or VOC emissions. The proposed revisions should not interfere with any applicable requirements concerning attainment of the NAAQS, reasonable further progress, or other applicable requirements under section 110(l) of the CAA.

Other specific requirements of the 1997 and 2008 8-hour ozone NAAQS case-by-case RACT determinations and alternative NOX emissions limits and the rationale for EPA's proposed action are explained more thoroughly in the NPRM, and its associated technical support document (TSD), and will not be restated here.

III. Public Comments and EPA Responses

EPA received one comment on the August 24, 2021 NPRM. 86 FR 47270. A summary of the comment and EPA's response are discussed in this section. A copy of the comment can be found in the docket for this rule action.

Comment 1: The commenter, on behalf of Sonneborn LLC, requests that EPA, as part of this rule action, remove the previously approved, RACT I NOX emission limits for Boiler 7 (Source ID 034), Boiler 12 (Source ID 033), and Boiler 14 (Source ID 032) from the Pennsylvania SIP or confirm in writing that the RACT I NOX emission limits for the three sources are deleted from the Pennsylvania SIP by operation of law. The commenter asserts that removing the RACT I NOX emission limits for these three sources from the Pennsylvania SIP “will avoid conflicting SIP (and permit) limits that apply to the same sources.” The commenter asserts that the current NOX emission limits for the three sources, which are complying with presumptive NOX RACT II, are more stringent than the previously approved RACT I NOX emission limits found in the Pennsylvania SIP.

Response 1: As identified by the commenter, the RACT I NOX emission limits for Sonneborn's Boilers 7, 12, and 14 were incorporated into the Pennsylvania SIP in 2001.⁵ The RACT I limits were contained in Plan Approval No. PA-10-037, effective June 27, 1995 (formerly Witco Corp, Petrolia Facility), which is part of the record for this docket. The RACT I emission limits were later modified in a subsequent SIP revision that was also incorporated into the SIP through Operating Permit No. OP-10-37, effective June 4, 2003 (formerly Crompton Corporation, Fairview Township). 69 FR 29444 (May 24, 2004).⁶ The RACT I NOX emission limits included in the SIP are as follows:

⁵ In the comment, the commenter states that the RACT I emission limits for the three boilers in question were incorporated into the SIP on August 21, 2001. 66 FR 43779, 43782. In order to clarify the record, EPA notes that the August 21, 2001 rulemaking referenced by the commenter was a direct final rule. When EPA received public comments on the rule, EPA withdrew the direct final rule and acted pursuant to a related proposed rulemaking that was noticed at the same time as the direct final rule. 66 FR 43822 (August 21, 2001). Subsequently, on October 17, 2001, EPA responded to the public comments and finalized its approval of the emission limits for the three boilers, which at that time were part of the Witco Corp, Petrolia Facility, a former owner of the Sonneborn facility. 66 FR 52705.

⁶ Permit OP-10-37, effective June 4, 2003, can be viewed at https://www.epa.gov/sips-pa/pennsylvania-sip-source-specific-requirement-crompton-corporation-fairview-township.

• Boiler 7: 0.180 lb/MMBtu when burning natural gas; ⁷ 0.40 lb/MMBtu when burning oil; ⁸ 53.1 tpy ⁹

⁷ OP-10-37, effective June 4, 2003, Condition 3 and PA-10-037, effective June 27, 1995, Condition 6.

⁸ OP-10-37, effective June 4, 2003, Condition 3.

⁹ PA-10-037, effective June 27, 1995, Condition 6.

• Boiler 12: ¹⁰ 0.180 lb/MMBtu when burning natural gas; 0.40 lb/MMBtu when burning oil; 40.9 tpy

¹⁰ Id.

• Boiler 14: ¹¹ 0.180 lb/MMBtu; 32.3 tpy

¹¹ Id.

Under RACT II, PADEP established new presumptive RACT II limits for a variety of sources, which were approved by EPA and incorporated into the SIP on May 9, 2019. 84 FR 20274. Among the RACT II presumptive limits were those related to certain combustion sources. 25 Pa. Code 129.97(g). Sonneborn's Boilers 7, 12, and 14 are now subject to the limits in these presumptive standards. 25 Pa. Code 129.97(g)(1)(i)-(iii). The commenter is correct that the lb/MMBtu NOX emission limits applicable to Boilers 7, 12, and 14 under the presumptive NOX RACT II requirements are more stringent than the lb/MMBtu NOX emission limits currently found in the Pennsylvania SIP for these three sources, which were established under RACT I. The presumptive NOX RACT II limits are as follows:

• Boiler 7: 0.10 lb/MMBtu when burning natural gas; 0.12 lb/MMBtu when burning distillate oil,

• Boiler 12: 0.10 lb/MMBtu when burning natural gas; 0.20 lb/MMBtu when burning residual oil, and

• Boiler 14: 0.10 lb/MMBtu.¹²

¹² 25 Pa. Code 129.97(g)(1)(i)-(iii).

However, the RACT I NOX emission limits for these boilers, which are part of the SIP, also include annual (tpy) limits—(53.1 tpy—Boiler 7, 40.9 tpy—Boiler 12, and 32.3 tpy—Boiler 14).¹³ The new presumptive NOX RACT II requirements do not include any annual limits. They only establish lb/MMBtu emission limits for NOX. The commenter has not explained how the new presumptive RACT II limits are more stringent than these SIP-approved annual limits.

¹³ See Plan Approval 10-037I, which is part of the record for this docket.

EPA disagrees with the commenter's request that the NOX emission limits (either the lb/MMBtu or the annual limits) for Boilers 7, 12, and 14 established under RACT I should be removed from the SIP or deleted from the SIP by operation of law. EPA can only approve or disapprove what has been formally submitted by a state. As the court recognized in Concerned Citizens of Bridesburg, a state has the primary control over the terms to be included in its SIP and EPA's authority to reject a SIP submittal is limited. Concerned Citizens of Bridesburg v. EPA, 836 F. 2d 777 (3rd Cir. 1987). EPA must approve a SIP revision if it meets the general requirements of CAA section 7410(a)(2). Id. The SIP revision for Sonneborn submitted by PADEP to EPA on May 7, 2020 primarily seeks to add case-by-case RACT II requirements for three sources at the facility (not Boilers 7, 12, and 14). In response to an EPA comment during the state public comment period questioning the status of the facility's RACT I limits, PADEP specifically stated that the “RACT I requirements will remain in effect and will remain in the facility's operating permit. No requirement removed is proposed. The most stringent requirements are always enforced whenever any redundancy occurs.” ¹⁴

¹⁴ See PADEP Memo, “10-037H, Plan Approval Draft, Comments of RACT Proposal, dated 06/28/2018, Sonneborn, LLC—Petrolia Facility, Petrolia Borough/Fairfield Township, Butler County,” dated July 25, 2018, which is part of the record for this docket.

The choice of what to propose for inclusion in the Pennsylvania SIP is under the control of PADEP. EPA can only act upon what has been formally submitted to it by the state. In this circumstance, PADEP's SIP revision for Sonneborn included new case-by-case RACT II determinations for several sources for incorporation into the Pennsylvania SIP with an explicit statement that all RACT I requirements would be retained. PADEP's SIP submittal for the facility is consistent with Pennsylvania's RACT program and the CAA and is approvable. Therefore, EPA will finalize its approval of the SIP revision for Sonneborn as proposed.

Should PADEP wish to address the commenter's concerns over the continued inclusion of RACT I requirements for Sonneborn in the SIP, PADEP would need to submit to EPA another SIP revision in the future, proposing to remove the prior, less stringent RACT I NOX emission limits for Boilers 7, 12, and 14 from the Pennsylvania SIP. If PADEP does submit such a SIP revision in the future, it would be subject to an evaluation under CAA section 110(l), which prohibits EPA from approving any SIP revisions that would interfere with applicable requirements concerning attainment, reasonable further progress, or other CAA requirements.

IV. Final Action

EPA is approving case-by-case RACT determinations and/or alternative NOX emissions limits for 23 sources in Pennsylvania, as required to meet obligations pursuant to the 1997 and 2008 8-hour ozone NAAQS, as revisions to the Pennsylvania SIP.

V. Incorporation by Reference

In this document, EPA is finalizing regulatory text that includes incorporation by reference. In accordance with requirements of 1 CFR 51.5, EPA is finalizing the incorporation by reference of source-specific RACT determinations and alternative NOX emissions limits under the 1997 and 2008 8-hour ozone NAAQS for certain major sources of VOC and NOX in Pennsylvania. EPA has made, and will continue to make, these materials generally available through https://www.regulations.gov and at the EPA Region III Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rule of EPA's approval, and will be incorporated by reference in the next update to the SIP compilation.¹⁵

¹⁵ 62 FR 27968 (May 22, 1997).

VI. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

C. Petitions for Judicial Review

Under section 307(b)(1) of the CAA, petitions for judicial review of this action must be filed in the United States Court of Appeals for the appropriate circuit by March 28, 2022. Filing a petition for reconsideration by the Administrator of this final rule does not affect the finality of this action for the purposes of judicial review nor does it extend the time within which a petition for judicial review may be filed, and shall not postpone the effectiveness of such rule or action.

This action approving Pennsylvania's NOX and VOC RACT requirements for 23 facilities for the 1997 and 2008 8-hour ozone NAAQS may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: December 8, 2021.
Diana Esher,
Acting Regional Administrator, Region III.

For the reasons set out in the preamble, 40 CFR part 52 is amended as follows:

PART 52—APPROVAL AND PROMULGATION OF IMPLEMENTATION PLANS

1. The authority citation for part 52 continues to read as follows:

Authority: 42 U.S.C. 7401 et seq.

Subpart NN—Pennsylvania

2. In § 52.2020, the table in paragraph (d)(1) is amended by:

a. Revising the entries “Caparo Steel Co.—Farrell”; “Carpenter Technology Corp.—Reading Plant”; “Chestnut Ridge Foam, Inc.—Latrobe”; “J & L Specialty Steel, Inc.—Midland Facility”; “Witco Corp.—Petrolia Facility”; “Armco, Inc. Butler Operations Main Plant”; “Armco, Inc. Butler Operations Stainless Plant”; “General Carbide Corp”; “Bethlehem Steel Corporation”; “Horsehead Resource Development Company, Inc”; “Crompton Corporation, Fairview Township”; “Tennessee Gas Pipeline Company, Station 219”; “Specialty Tires of America, Inc”; “Truck Accessories Group East”; “Standard Steel Division of Freedom Forge Corp”; “United Refining Company” (Permit No. OP-62-017); “Wheatland Tube Company”; “American Refining Group, Inc”; and “Gencorp, Inc”;

b. Adding entries at the end of the table for “AK Steel Corp (formerly referenced as Armco, Inc. Butler Operations Main Plant; Armco, Inc. Butler Operations Stainless Plant)”; “Allegheny and Tsingshan Stainless LLC, Midland Facility (formerly referenced as J & L Specialty Steel, Inc.—Midland Facility)”; “Alumax Mill Products”; “American Craft Brewery LLC”; “American Refining Group Inc (formerly referenced as American Refining Group, Inc)”; “American Zinc Recycling Corp (formerly referenced as Horsehead Resource Development Company, Inc)”; “Appvion Operations, Inc.”; “ArcelorMittal Steelton LLC (formerly referenced as Bethlehem Steel Corporation)”; “Carpenter Technology Corporation, Reading Plt (formerly referenced as Carpenter Technology Corporation—Reading Plant)”; “Chestnut Ridge Foam Inc (formerly referenced as Chestnut Ridge Foam, Inc.—Latrobe)”; “East Penn Manufacturing Company, Inc., Battery Assembly”; “General Carbide Corporation (formerly referenced as General Carbide Corp)”; “Lord Corp Saegertown”; “NLMK Pennsylvania LLC, Farrell Plt (formerly referenced as Caparo Steel Co.—Farrell)”; “Omnova Solutions Inc.—Auburn Plant (formerly referenced as Gencorp, Inc)”; “Pixelle Specialty Solutions LLC—Spring Grove Mill”; “Sonneborn LLC (formerly referenced as Crompton Corporation, Fairview Township; Witco Corp—Petrolia Facility)”; “Specialty Tires of America, Indiana Plant (formerly referenced as Specialty Tires of America, Inc)”; “Standard Steel LLC (formerly referenced as Standard Steel Division of Freedom Forge Corp)”; “Tennessee Gas Pipeline Co., Mercer Station 219 (formerly referenced as Tennessee Gas Pipeline Company, Station 219)”; “Truck Accessories Group Milton Plant (formerly referenced as Truck Accessories Group East)”; and “United Refining Co (formerly referenced as United Refining Company)”; and

c. Adding an additional entry at the end of the table for “Wheatland Tube Company”.

The revisions and additions read as follows:

§ 52.2020 Identification of plan.

* * * * *

(d) * * *

(1) * * *

Name of source | Permit No. | County | State effective date | EPA approval date | Additional explanations/§§ 52.2063 and 52.2064 citations ¹
* * * * * * *
Caparo Steel Co.—Farrell | OP-43-285 | Mercer | 11/3/95 | 12/20/96, 61 FR 67229 | See also 52.2064(i)(14); 52.2037(g).
* * * * * * *
Carpenter Technology Corp.—Reading Plant | OP-06-1007 | Berks | 9/27/96 | 4/18/97, 62 FR 19049 | See also 52.2064(i)(9).
* * * * * * *
Chestnut Ridge Foam, Inc.—Latrobe | (OP)65-000-181 | Westmoreland | 12/29/95 | 10/17/01, 66 FR 52695 | See also 52.2064(i)(10).
* * * * * * *
J & L Specialty Steel, Inc.—Midland Facility | (OP)04-000-013 | Beaver | 3/23/01 | 10/16/01, 66 FR 52511 | See also 52.2064(i)(2).
* * * * * * *
Witco Corp.—Petrolia Facility | PA-10-037 | Butler | 6/27/95 | 10/17/01, 66 FR 52705 | See also 52.2064(i)(17).
* * * * * * *
Armco, Inc. Butler Operations Main Plant | PA-10-001M | Butler | 2/23/96 | 10/15/01, 66 FR 52338 | See also 52.2064(i)(1).
Armco, Inc. Butler Operations Stainless Plant | PA-10-001S | Butler | 2/23/96 | 10/15/01, 66 FR 52338 | See also 52.2064(i)(1).
* * * * * * *
General Carbide Corp | (OP)65-000-622 | Westmoreland | 12/29/95 | 10/17/01, 66 FR 52700 | See also 52.2064(i)(12).
* * * * * * *
Bethlehem Steel Corporation | OP-22-02012 | Dauphin | 4/9/99 | 5/23/02, 67 FR 36108 | See also 52.2064(i)(8).
* * * * * * *
Horsehead Resource Development Company, Inc | OP-13-0001 | Carbon | 5/16/95 | 4/1/03, 68 FR 15661 | See also 52.2064(i)(6).
* * * * * * *
Crompton Corporation, Fairview Township | OP-10-037 | Butler | 6/4/03 | 5/25/04, 69 FR 29444 | See also 52.2064(i)(17).
* * * * * * *
Tennessee Gas Pipeline Company, Station 219 | OP-43-0272 | Mercer | 4/7/99 | 10/27/04, 69 FR 62585 | See also 52.2064(i)(20).
* * * * * * *
Specialty Tires of America, Inc | 32-000-065 | Indiana | 1/6/00 | 3/29/05, 70 FR 15774 | See also 52.2064(i)(18).
Truck Accessories Group East | OP-49-0005 | Northumberland | 3/26/99 | 3/29/05, 70 FR 15774 | See also 52.2064(i)(21).
* * * * * * *
Standard Steel Division of Freedom Forge Corp | 44-2001 | Mifflin | 5/31/95 | 3/30/05, 70 FR 16118 | See also 52.2064(i)(19).
* * * * * * *
United Refining Company | OP-62-017 | Warren | 5/31/95, 11/14/96 | 3/31/05, 70 FR 16423 | See also 52.2064(i)(22).
* * * * * * *
Wheatland Tube Company | OP-43-182 | Mercer | 7/26/95 | 8/24/05, 70 FR 49496 | See also 52.2064(i)(23).
* * * * * * *
American Refining Group, Inc | OP-42-004 | McKean | 11/23/98 | 6/14/06, 71 FR 34259 | See also 52.2064(i)(5).
* * * * * * *
Gencorp, Inc | 54-0009 | Schuylkill | 5/31/96 | 6/14/06, 71 FR 34259 | See also 52.2064(i)(15).
* * * * * * *
AK Steel Corp (formerly referenced as Armco, Inc. Butler Operations Main Plant; Armco, Inc. Butler Operations Stainless Plant) | 10-00001 | Butler | 2/25/20 | 1/26/22, [insert Federal Register citation] | 52.2064(i)(1).
Allegheny and Tsingshan Stainless LLC, Midland Facility (formerly referenced as J & L Specialty Steel, Inc.—Midland Facility) | 04-00013 | Beaver | 2/24/20 | 1/26/22, [insert Federal Register citation] | 52.2064(i)(2).
Alumax Mill Products | 36-05014 | Lancaster | 9/9/19 | 1/26/22, [insert Federal Register citation] | 52.2064(i)(3).
American Craft Brewery LLC | 39-00006F | Lehigh | 10/23/19 | 1/26/22, [insert Federal Register citation] | 52.2064(i)(4).
American Refining Group Inc (formerly referenced as American Refining Group, Inc) | 42-00004, 42-004K | McKean | 1/15/20, 9/24/19 | 1/26/22, [insert Federal Register citation] | 52.2064(i)(5).
American Zinc Recycling Corp (formerly referenced as Horsehead Resource Development Company, Inc) | 13-00001 | Carbon | 3/25/19 | 1/26/22, [insert Federal Register citation] | 52.2064(i)(6).
Appvion Operations, Inc. | 07-05001 | Blair | 3/16/20 | 1/26/22, [insert Federal Register citation] | 52.2064(i)(7).
ArcelorMittal Steelton LLC (formerly referenced as Bethlehem Steel Corporation) | 22-05012 | Dauphin | 3/1/20 | 1/26/22, [insert Federal Register citation] | 52.2064(i)(8).
Carpenter Technology Corporation, Reading Plt (formerly referenced as Carpenter Technology Corporation—Reading Plant) | 06-05007 | Berks | 3/10/20 | 1/26/22, [insert Federal Register citation] | 52.2064(i)(9).
Chestnut Ridge Foam Inc (formerly referenced as Chestnut Ridge Foam, Inc.—Latrobe) | 65-00181 | Westmoreland | 1/22/20 | 1/26/22, [insert Federal Register citation] | 52.2064(i)(10).
East Penn Manufacturing Company, Inc., Battery Assembly | 06-05069 | Berks | 5/21/2019 | 1/26/22, [insert Federal Register citation] | 52.2064(i)(11).
General Carbide Corporation (formerly referenced as General Carbide Corp) | 65-00622 | Westmoreland | 3/3/20 | 1/26/22, [insert Federal Register citation] | 52.2064(i)(12).
Lord Corp Saegertown | 20-00194 | Crawford | 4/12/21 | 1/26/22, [insert Federal Register citation] | 52.2064(i)(13).
NLMK Pennsylvania LLC, Farrell Plt (formerly referenced as Caparo Steel Co.—Farrell) | 43-00310 | Mercer | 1/22/20 | 1/26/22, [insert Federal Register citation] | 52.2064(i)(14).
Omnova Solutions Inc.—Auburn Plant (formerly referenced as Gencorp, Inc) | 54-00009 | Schuylkill | 6/26/18 | 1/26/22, [insert Federal Register citation] | 52.2064(i)(15).
Pixelle Specialty Solutions LLC—Spring Grove Mill | 67-05004 | York | 4/1/20 | 1/26/22, [insert Federal Register citation] | 52.2064(i)(16).
Sonneborn LLC (formerly referenced as Crompton Corporation, Fairview Township; Witco Corp—Petrolia Facility) | 10-037I | Butler | 9/17/19 | 1/26/22, [insert Federal Register citation] | 52.2064(i)(17).
Specialty Tires of America, Indiana Plant (formerly referenced as Specialty Tires of America, Inc) | 32-00065 | Indiana | 1/16/19 | 1/26/22, [insert Federal Register citation] | 52.2064(i)(18).
Standard Steel LLC (formerly referenced as Standard Steel Division of Freedom Forge Corp) | 44-05001 | Mifflin | 8/16/19 | 1/26/22, [insert Federal Register citation] | 52.2064(i)(19).
Tennessee Gas Pipeline Co., Mercer Station 219 (formerly referenced as Tennessee Gas Pipeline Company, Station 219) | 43-00272 | Mercer | 1/2/19 | 1/26/22, [insert Federal Register citation] | 52.2064(i)(20).
Truck Accessories Group Milton Plant (formerly referenced as Truck Accessories Group East) | 49-00020 | Northumberland | 1/14/20 | 1/26/22, [insert Federal Register citation] | 52.2064(i)(21).
United Refining Co (formerly referenced as United Refining Company) | 62-00017 | Warren | 2/6/20 | 1/26/22, [insert Federal Register citation] | 52.2064(i)(22).
Wheatland Tube Company | 43-00182 | Mercer | 3/26/19 | 1/26/22, [insert Federal Register citation] | 52.2064(i)(23).
¹ The cross-references that are not § 52.2064 are to material that pre-date the notebook format. For more information, see § 52.2063.

* * * * *

3. Amend § 52.2064 by adding paragraph (i) to read as follows:

§ 52.2064 EPA-approved Source-Specific Reasonably Available Control Technology (RACT) for Volatile Organic Compounds (VOC) and Oxides of Nitrogen (NOX).

* * * * *

(i) Approval of source-specific RACT requirements for 1997 and 2008 8-hour ozone national ambient air quality standards for the facilities listed in this paragraph (i) are incorporated as specified. (Rulemaking Docket No. EPA-OAR-2021-0531.)

(1) AK Steel Corp—Incorporating by reference Permit No. 10-00001, effective February 25, 2020, as redacted by Pennsylvania, which supersedes the prior RACT Plan Approvals Nos. PA-10-001M and PA-10-001S, effective February 23, 1996, except for Conditions #4 (annual stack testing requirement for the #3 Baghouse only), #10, and #15 (as it relates to Boiler #10 only) in Plan Approval No. PA-10-001M. See also § 52.2063(c)(175)(i)(B) and (C), for prior RACT approvals.

(2) Allegheny and Tsingshan Stainless LLC, Midland Facility—Incorporating by reference Permit No. 04-00013, effective February 24, 2020, as redacted by Pennsylvania, which supersedes the prior RACT Permit No. OP-04-000-013, effective March 23, 2001. See also § 52.2063(c)(172)(i)(B)(10), for prior RACT approval.

(3) Alumax Mill Products—Incorporating by reference Permit No. 36-05014, effective September 9, 2019, as redacted by Pennsylvania.

(4) American Craft Brewery LLC—Incorporating by reference Permit No. 39-00006F, effective October 23, 2019, as redacted by Pennsylvania.

(5) American Refining Group Inc—Incorporating by reference Permit No. 42-00004, effective January 15, 2020, and Plan Approval No. 42-004K, effective September 24, 2019, as redacted by Pennsylvania. All permit conditions in the prior RACT Permit No. OP-42-004, effective November 23, 1998, remain as RACT requirements. See also § 52.2020(d)(1), for prior RACT approval.

(6) American Zinc Recycling Corp—Incorporating by reference Permit No. 13-00001, effective March 25, 2019, as redacted by Pennsylvania, which supersedes the prior RACT Permit No. OP-13-00001, effective May 16, 1995. See also § 52.2063(c)(196)(i)(B)(3), for prior RACT approval.

(7) Appvion Operations, Inc.—Incorporating by reference Permit No. 07-05001, effective March 16, 2020, as redacted by Pennsylvania.

(8) ArcelorMittal Steelton LLC—Incorporating by reference Permit No. 22-05012, effective March 1, 2020, as redacted by Pennsylvania. All permit conditions in the prior RACT Permit No. 22-02012, effective April 9, 1999, remain as RACT requirements except for Conditions 9-15 and for Condition 20 as it relates to Boilers #2 and #5, Soaking Pit Batteries #1-#3, and the 20” Mill Reheat Furnace. See also § 52.2063(c)(191), for prior RACT approval.

(9) Carpenter Technology Corporation, Reading Plt—Incorporating by reference Permit No. 06-05007, revised March 10, 2020, as redacted by Pennsylvania, which supersedes the prior RACT Permit No. 06-1007, issued September 27, 1996, except as modified by Section E, Source Group 23 Condition No. 001 in Permit No. 06-05007, referenced above, which remains as a RACT requirement.

(10) Chestnut Ridge Foam Inc—Incorporating by reference Permit No. 65-00181, effective January 22, 2020, as redacted by Pennsylvania, which supersedes the prior RACT Permit No. OP-65-000-181, effective December 29, 1995, except for Condition 8, which remains a RACT requirement. See also § 52.2063(c)(170)(i)(B)(4), for prior RACT approval.

(11) East Penn Manufacturing Company, Inc.—Incorporating by reference Permit No. 06-05069, revised May 21, 2019, as redacted by Pennsylvania.

(12) General Carbide Corporation—Incorporating by reference Permit No. 65-00622, effective March 3, 2020, as redacted by Pennsylvania. All permit conditions in the prior RACT Permit No. OP-65-000-622, effective December 29, 1995, remain as RACT requirements. See also § 52.2063(c)(178)(i)(B)(6), for prior RACT approval.

(13) Lord Corp Saegertown—Incorporating by reference Permit No. 20-00194, effective April 12, 2021, as redacted by Pennsylvania.

(14) NLMK Pennsylvania LLC, Farrell Plt—Incorporating by reference Permit No. 43-00310, issued January 22, 2020 as redacted by Pennsylvania, which supersedes the prior RACT Permit No. 43-285, effective November 3, 1995. See also § 52.2063(c)(113)(i)(B)(1), for prior RACT approval.

(15) Omnova Solutions Inc.—Auburn Plant—Incorporating by reference Permit No. 54-00009, issued June 26, 2018, as redacted by PADEP. All permit conditions in the prior RACT Permit No. 54-0009, issued June 12, 1996, are superseded except for Condition No. 5(c) for the Hot Oil Furnace and Pump House Heater, which remains as a RACT requirement. See also § 52.2020(d)(1), for prior RACT approval.

(16) Pixelle Specialty Solutions LLC—Spring Grove Mill—Incorporating by reference Permit No. 67-05004, effective April 1, 2020, as redacted by PADEP.

(17) Sonneborn LLC—Incorporating by reference Permit No. 10-037I, effective September 17, 2019, as redacted by Pennsylvania. All permit conditions in the prior RACT Permit Nos. OP-10-037, effective June 4, 2003, and PA-10-037, effective June 27, 1995, remain as RACT requirements. See also § 52.2063(c)(213)(i)(B)(2) and (c)(173)(i)(B)(2), for prior RACT approvals.

(18) Specialty Tires of America, Indiana Plant—Incorporating by reference Permit No. 32-00065, effective January 16, 2019, as redacted by Pennsylvania, which supersedes Permit No. 32-000-065, effective January 1, 2000 except for short term VOC limits for Source 103 and short and annual limits for Sources 101, 102, and 104 in Condition 5, which remain as RACT. See also § 52.2020(d)(1), for prior RACT approval.

(19) Standard Steel LLC—Incorporating by reference Permit No. 44-05001, effective August 16, 2019, as redacted by Pennsylvania, which supersedes the prior RACT Permit No. 44-2001, effective May 31, 1995, except for Conditions 4, 5 (as it applies to the three continuous conveyors Nos. AFM 8138, AFM 8139, and AFM 8139 [Source IDs 201, 201B, and 201C] only), 6, 7, 9, 10, 11, 12, 13, 14, 16 (as it applies to 7465 150 HP Boiler 7466 500 HP Boiler, and 7467 300 HP Boiler [Source IDs 032, 037, and 038] only). See also § 52.2020(d)(1), for prior RACT approval.

(20) Tennessee Gas Pipeline Co., Mercer Station 219—Incorporating by reference Permit No. 43-00272, effective January 2, 2019, as redacted by Pennsylvania. Previously incorporated Permit No. 43-0272, effective April 7, 1999, remains as RACT, except for Condition 3 requirements for retarding ignition timing of the six 1100 bhp Cooper-Bessemer GMV-10TF engines (Sources 131, 132, 133, 134, 135, and 136) and five 1350 bhp Cooper-Bessemer GMV10 engines (Sources 139, 140, 141, 142, and 143) and Condition 5 pound per hour limits for the six 1100 bhp Cooper-Bessemer GMV-10TF engines (Sources 131, 132, 133, 134, 135, and 136), two 1350 bhp Cooper-Bessemer GMV 10TFS engines (Sources 137 and 138), and five 1350 bhp Cooper-Bessemer GMV10 engines (Sources 139, 140, 141, 142, and 143), which are superseded. See also § 52.2063(c)(218)(i)(B)(2), for prior RACT approval.

(21) Truck Accessories Group Milton Plant—Incorporating by reference Permit No. 49-00020, effective January 14, 2020, as redacted by Pennsylvania, in addition to the prior RACT Permit No. 54-0041, Permit No. OP-49-0005, effective March 26, 1999, which also remains as RACT. See also § 52.2020(d)(1), for prior RACT approval.

(22) United Refining Co—Incorporating by reference Permit No. 62-00017, effective February 6, 2020, as redacted by Pennsylvania. All permit conditions in the prior RACT Permit No. OP-62-017, effective November 14, 1996, remain as RACT requirements. See also § 52.2020(d)(1), for prior RACT approval.

(23) Wheatland Tube Company—Incorporating by reference Permit No. 43-00182, issued June 9, 2015, revised and effective March 26, 2019, as redacted by Pennsylvania. All permit conditions in the prior RACT Permit No. 43-182, issued July 26, 1995, remain as RACT requirements. See also § 52.2020(d)(1), for prior RACT approval.

[FR Doc. 2021-27233 Filed 1-25-22; 8:45 am]

BILLING CODE 6560-50-P